INTERNATIONAL TRADE COMMISSION

[Investigation No. 731-TA-1185 (Second Review)]

Steel Nails From the United Arab Emirates

Determination

On the basis of the record ¹ developed in the subject five-year review, the United States International Trade Commission (“Commission”) determines, pursuant to the Tariff Act of 1930 (“the Act”), that revocation of the antidumping duty order on steel nails from the United Arab Emirates would be likely to lead to continuation or recurrence of material injury to an industry in the United States within a reasonably foreseeable time.

¹ The record is defined in § 207.2(f) of the Commission's Rules of Practice and Procedure (19 CFR 207.2(f)).

Background

The Commission instituted this review on September 1, 2022 (87 FR 53777) and determined on December 5, 2022 that it would conduct a full review (87 FR 79907, December 28, 2022). Notice of the scheduling of the Commission's review and of a public hearing to be held in connection therewith was given by posting copies of the notice in the Office of the Secretary, U.S. International Trade Commission, Washington, DC, and by publishing the notice in the Federal Register on February 9, 2023 (88 FR 8457). The Commission conducted its hearing on June 29, 2023. All persons who requested the opportunity were permitted to participate.

The Commission made this determination pursuant to section 751(c) of the Act (19 U.S.C. 1675(c)). It completed and filed its determination in this review on August 28, 2023. The views of the Commission are contained in USITC Publication 5454 (August 2023), entitled Steel Nails from the United Arab Emirates: Investigation No. 731-TA-1185 (Second Review).

By order of the Commission.
Issued: August 28, 2023.
Lisa Barton,
Secretary to the Commission.

[FR Doc. 2023-18855 Filed 8-30-23; 8:45 am]

BILLING CODE 7020-02-P